DEPARTMENT OF JUSTICE

Notice of Lodging of Consent Decree Under the Comprehensive Environmental Response, Compensation and Liability Act

Notice is hereby given that on June 1, 2007, a proposed consent decree was lodged with the United States District Court for the Northern District of Iowa in United States v. MidAmerian Energy Company and the City of LeMars, Iowa, Civil Action No. 07-4045. The proposed consent decree would resolve civil claims alleged in a complaint filed simultaneously with the degree, asserting liability against MidAmerican Energy Company (MidAmerican) and city of LeMars under the Comprehensive Environmental Response, Compensation, and Liability Act (CERCLA).

The United States' complaint, brought pursuant to CERCLA Section 107, 42 U.S.C. 9607, seeks recovery of response costs incurred or to be incurred by the United States for certain response actions taken at or in connection with the release or threatened release of hazardous substances at the LeMars Coal Gas Superfund Site in LeMars, Plymouth County, Iowa. The proposed consent decree would resolve those claims against MidAmerican and the City of Le Mars.

Under the proposed consent decree MidAmerican will pay $3.1 million and the City of LeMars will pay $1.5 million to the United States. The consent decree incorporates an administrative order that the City of LeMars agreed to enter into to assist EPA's response actions by performing work and providing institutional controls at the Site. In exchange for the payment of response costs and the performance of work the decree would provide MidAmerican and the City of LeMars with respective covenant not to sue, and the defendants would grant a covenant not to sue to the United States.

The Department of Justice will receive comments relating to the proposed consent decree for a period of thirty (30) days from the date of this publication. Comments should be addressed to the Assistant Attorney General, Environmental and Natural Resources Division, P.O. Box 7611, U.S. Department of Justice, Washington, DC 20044, and should refer to United States v. MidAmerican Energy Company and the City of LeMars, Iowa, D.J. Ref. No. 90-11-2-08214. (Public comments may be submitted by e-mail to the following e-mail address: pubcomment-ees.enrd@usdoj.gov.)

The proposed consent decree may be examined at the Office of the United States Attorney, 401 First Street, SE., Suite 400, Cedar Rapids, IA 52401-1825, and U.S. EPA Region, 7901 North 5th Street, Kansas City, Kansas 66101. During the public comment period, the consent decree also may be examined on the following Department of Justice Web site: http://www.usdoj.gov/enrd/Consent_Decrees.html. A copy of the consent decree also may be obtained by mail from the Consent Decree Library, P.O. Box 7611, U.S. Department of Justice, Washington, DC 20044, or by e-mailing or faxing a request to Tonia Fleetwood (tonia.fleetwood@usdoj.gov.), fax number (202) 514-0097, phone confirmation number (202) 514-1547. In requesting a copy from the Consent Decree Library, please provide a check in the amount of $42 (25 cents per page reproduction cost) payable to the United States Treasury.

Robert E. Maher, Jr.,
Assistant Section Chief, Environmental Enforcement Section, Environmental and Natural Resoures Division.

[FR Doc. 07-2932 Filed 6-13-07; 8:45 am]

BILLING CODE 4410-15-M